FEDERAL MARITIME COMMISSION

[Docket No. 24-26]

Triple L Global, LLC, Complainant v. SLI, Inc. d/b/a Sealink International, Respondent; Notice of Filing of Complaint and Assignment

Served: August 7, 2024.

Notice is given that a complaint has been filed with the Federal Maritime Commission (the “Commission”) by Triple L Global, LLC (the “Complainant”) against SLI, Inc. d/b/a Sealink International (the “Respondent”). Complainant states that the Commission has subject matter jurisdiction over the complaint pursuant to the Shipping Act of 1984, as amended, 46 U.S.C. 40101 et seq. and personal jurisdiction over the Respondent as an ocean transportation intermediary, ocean freight forwarder, and a non-vessel-operating common carrier, as these terms are defined in 46 U.S.C. 40102.

Complainant is a corporation organized and existing under the laws of California with its principal place of business in San Leandro, California.

Complainant identifies Respondent as a corporation organized and existing under the laws of Texas with its principal place of business in Allen, Texas.

Complainant alleges that Respondent violated 46 U.S.C. 41102(c) and 41103, and 46 CFR 515.31 and 515.32. Complainant alleges these violations arose from conversion of cargo ownership, withholding of information, unauthorized alteration of a bill of lading, unlawful disclosure of information related to cargo, and other acts or omissions of Respondent.

An answer to the complaint must be filed with the Commission within 25 days after the date of service.

The full text of the complaint can be found in the Commission's electronic Reading Room at https://www2.fmc.gov/readingroom/proceeding/24-26/. This proceeding has been assigned to the Office of Administrative Law Judges. The initial decision of the presiding judge shall be issued by August 7, 2025, and the final decision of the Commission shall be issued by February 23, 2026.

David Eng,
Secretary.

[FR Doc. 2024-18392 Filed 8-15-24; 8:45 am]

BILLING CODE 6730-02-P